DEPARTMENT OF COMMERCE

National Oceanic and Atmospheric Administration

RIN 0648-XN62

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its Scientific and Statistical Committee (SSC), American Samoa Archipelago Fishery Ecosystem Plan Regional Ecosystem Advisory Committee (REAC), Advisory Panel (AP), and Plan Team (PT). The Council will also hold its 144th meeting to consider advisory group recommendations and take actions on fishery management issues in the Western Pacific Region.

DATES: The 100th SSC Meeting will be held on March 17-19, 2009, and the American Samoa REAC will be held on March 20, 2009. The Advisory Panel and Plan Team will meet on March 23, 2009. The 144th Council meeting will be held on March 23-26, 2009. All meetings will be held in Pago Pago, American Samoa. For specific times and agendas, see SUPPLEMENTARY INFORMATION.

ADDRESSES: The 100th SSC, REAC, PT and 144th Council meetings will be held at the Governor H. Rex Lee Auditorium (Fale Laumei), Department of Commerce Government of American Samoa, Pago Pago, American Samoa; telephone: (684) 633-5155. The Council Standing Committee and AP meetings will be held at Sadie's by the Sea, Pago Pago, American Samoa; telephone: ( 684) 633-5981.

FOR FURTHER INFORMATION CONTACT: Kitty M. Simonds, Executive Director; telephone: (808) 522-8220.

SUPPLEMENTARY INFORMATION: In addition to the agenda items listed here, the SSC, REAC, AP, PT and Council will hear recommendations from Council advisory groups. Public comment periods will be provided throughout the agendas. The order in which agenda items are addressed may change. The meetings will run as late as necessary to complete scheduled business.

Schedule and Agenda for SSC Meeting:

8:30 a.m.-5 p.m. Tuesday, March 17, 2009

1. Introductions

2. Approval of Draft Agenda and Assignment of Rapporteurs

3. Status of the 99th SSC Meeting Recommendations

4. Report from the National Marine Fisheries Service (NMFS) Pacific Islands Fisheries Science Center (PIFSC) Director

5. Program Planning

A. Annual Catch Limits

1. Plan Team Risk Rankings (Action Item)

B. Western Pacific Stock Assessment Review (WPSAR) for Hawaii Bottomfish

C. Impacts of New Monuments

1. Review of U.S. Historical Catch, Effort & Permits

2. Non-commercial Fishing

a. Traditional Indigenous Fishing

b. Sustenance Fishing

c. Recreational Fishing

d. Research Fishing

3. Recommendations on Prohibiting Commercial Fishing in National Marine Monuments (Action Item)

4. Deep-Sea Mining and Fishery Impacts

5. Permits and Reporting

6. Research and Monitoring

D. Review of Coral Reef Ecosystem Division Survey Methodologies and Data Analysis

E. Public Comment

F. Discussion and Action

6. Insular Fisheries

A. American Samoa Archipelago

1. Report on Coral Reef Fisheries

2. Report on Bottomfish Fisheries

B. Reports from Samoa & Cook Islands on Insular Fisheries

C. Recommendation on Commonwealth of the Northern Mariana Islands (CNMI) Management Authority of Fisheries Resources (Action Item)

D. Seamount Groundfish Moratorium Review

E. Council Advisory Group Reports

F. Public Comment

G. Discussion and Action

8:30 a.m.-5 p.m. Wednesday, March 18, 2009

7. Pelagic Fisheries

A. Longline Management

1. Update on Hawaii Shallow-set Fishery

2. Recommendation on American Samoa Longline Fishery Management Measures to Minimize Turtle Interactions (Action Item)

3. Regional Fishery Management Organization (RFMO) Quotas (Action Item)

B. Non-Longline Management

1. Recommendation on Cross Seamount/NOAA Weather Buoy Fishery Limited Entry Program (Action Item)

2. Recommendation on Measures to Manage Purse Seine Fishing on Fishery Aggregation Devices (FADs) and FAD Registration in U.S. EEZ Waters of the Western Pacific (Action Item)

C. American Samoa and Hawaii Longline Quarterly Reports

D. Proposals for Additional Marine Reserves on the High Seas

E. Reports from Samoa & Cook Islands on Pelagic Fisheries Development

F. International Fisheries/Meetings

1. Western Central Pacific Fishery Commission (WCPFC) Conservation and Management Measures

2. Inter-American Tropical Tuna Commission (IATTC) Conservation and Management Measures

3. North Pacific Seamount RFMO

G. Pelagic Plan Team Recommendations

H. Public Comment

I. Discussion and Action

8. Protected Species

A. Report on Japan Sea Turtle Meetings

B. Report on Fixed Net/Sea Turtle Interaction Workshop

C. Species Recovery Credits

D. Update on Protected Species Petitions

1. Monk Seal Critical Habitat Designation

2. Loggerhead Distinct Population Segment (DPS) Response

3. Leatherback Critical Habitat

4. Take Reduction Team (TRT) for False Killer Whales

E. Public Comment

F. Discussion and Action

8:30 a.m.-5 p.m. Thursday, March 19, 2009

9. Other Business

A. Report on National SSC Workshop

B. 101st SSC Meeting

C. National Standard 2 Comments

10. Summary of SSC Recommendations to the Council

Schedule and Agenda for REAC Meeting:

9 a.m.-4 p.m. Friday, March 20, 2009

1. Welcome and Introduction of Members

2. Approval of Draft Agenda

3. Status of 2008 REAC Meeting Outcomes

4. Synopsis of Upcoming 144th Council Meeting Actions

a. Recommendation for American Samoa Fishery Management Measures to Minimize Turtle Interactions

b. Recommendation on Measures to Manage Purse Seine Fishing on FADs and FAD Registration in U.S. EEZ Waters of the Western Pacific

c. Risk ranking of American Samoa Non-pelagic Species

5. Community Marine Management Forum

a. Report on Fishery Development in American Samoa

b. Identification of Marine, Education and Training Priorities

c. Eco-labeling Activities

d. Report on Coastal Erosion Impacts on Marine Ecosystems

e. Report on FADs

f. Review of New Monument Provisions

i. Non-Commercial Fishing

ii. Permits And Reporting

iii. Deep Sea Mining And Ecosystem Impacts

iv. Research and Monitoring

6. Public Comments

7. REAC Discussion and Action

Schedule and Agenda for PT Meeting:

8:30 a.m.-4 p.m., Monday, March 23, 2009

1. Welcome and Introductions

2. Approval of Draft Agenda

3. Upcoming 144th Council Meeting Actions

a. Management Unit Species Risk Ranking of Non-pelagic Species

b. Recommendation for American Samoa Longline Fishery Management Measures to Minimize Turtle Interactions

b. Recommendation on Measures to Manage Purse Seine Fishing on FADs and FAD Registration in U.S. EEZ Waters of the Western Pacific

c. Fishery Development

1. Cooperative Research

2. American Samoa Marine Conservation Plan

3. Identification of Marine, Education and Training Priorities

4. Review of Annual Report Module for American Samoa

a. Bottomfish

b. Coral Reef

c. Precious Corals

d. Crustaceans

5. Public Comments

6. Plan Team Discussion and Recommendations

Schedule and Agenda for AP Meeting:

4:30 p.m-9 p.m., Monday, March 23, 2009

1. Welcome and Introduction of Members

2. Introduction to the Council and Magnuson Stevens Act

3. Status Report on 2008 Advisory Panel Recommendations

4. Emerging Fishery Issues

5. Community Marine Management

a. Fishery Development in American Samoa

b. Identifying Marine Education and Training Priorities

c. Eco-Labeling and Seafood Safety

d. Village Monitoring

6. Upcoming 144th Council Meeting Actions

a. Recommendation for American Samoa Longline Fishery Management Measures to Minimize Turtle Interactions

b. Recommendation on Measures to Manage Purse Seine Fishing on FADs and FAD Registration in U.S. EEZ Waters of the Western Pacific

c. Risk-ranking of American Samoa Non-Pelagic Management Unit Species

d. Western Central Pacific Fisheries Commission Requirements

e. Review of New Monument Provisions

7. Public Comment

8. Discussion and Action

Schedule and Agenda for 144th Council Meeting:

Monday, March 23, 2009

Standing Committee Meetings

1. 10 a.m.-12 noon Executive and Budget Standing Committee

8:30 a.m.-6 p.m. Tuesday, March 24, 2009

1. Introductions

2. Welcome from American Samoa Governor

3. Approval of Agenda

4. Approval of 143rd Meeting Minutes

5. Agency Reports

A. NMFS

1. Pacific Islands Regional Office (PIRO)

2. PIFSC

B. NOAA General Counsel

C. U.S. Fish and Wildlife Service

D. Enforcement

1. U.S. Coast Guard

2. NOAA Office for Law Enforcement

3. Status of Violations

E. Public Comment

F. Council Discussion and Action

6. New Monument

A. Review of U.S. Historical Catch, Effort & Permits

1. Non-Commercial Fishing

a. Traditional Indigenous Fishing

b. Sustenance Fishing

c. Recreational Fishing

d. Research

2. Recommendations on Prohibiting Commercial Fishing in National Marine Monuments (Action Item)

3. Permits And Reporting

4. Deep Sea Mining And Ecosystem Impacts

5. Research and Monitoring

6. Council Member Perspectives

7. Program Planning

A. Program Planning and Research

1. Update on Small-scale and Traditional Fishing Research Recommendations

2. Identification of Marine Conservation Areas

B. Recreational Fishing

1. Report from the Pago Pago Game Fish Association

2. Recommendation on Recreational Fishing in Protected Areas (Action Item)

C. Update on Western Pacific Marine and Training (MET) Program

D. Status of Eco-labeling U.S. Fisheries

E. Update on Legislation

F. NOAA/NMFS Transition Plan

1. Council Coordination Committee and Council Outreach

2. Non-Governmental Organizations

G. Update on Status of Fishery Management Plan (FMP) actions

H. Recommendation on Annual Catch Limits for Western Pacific Fishery Stocks (Action Item)

1. Plan Team Risk Ranking

I. SSC Recommendations

J. Public Hearing

K. Council Discussion and Action

8. Public Comment on Non-agenda Items

6:30 p.m.-9 p.m. Tuesday, March 24, 2009

Fishers Forum

A. Welcome and Introductions

B. Panel to discuss Fisheries Development in American Samoa and Surrounding Region—Opportunities and Obstacles

C. Public Question and Answer Period

D. Closing Remarks

8:30 a.m.-6:30 p.m. Wednesday, March 25, 2009

9. American Samoa Archipelago

A. Motu Lipoti

B. Enforcement Issues

C. Report on PIFSC Coral Reef Ecosystem Division Fish Survey Methodologies and Data Analysis

D. Report on Coral Reef Fisheries

E. Report on Bottomfish Fishery

F. American Samoa Community Issues

1. MET Priorities

2. Turtle Conservation Activities

3. Community Vessel Monitoring Project

4. Lunar Calendar Workshop

5. Coastal America

G. Education and Outreach Initiatives

H. Review of Deeds of Cession

I. Report on Fishers Forum

J. Report on American Samoa Advisory Panel Meeting

K. Report on American Samoa Plan Team Meeting

L. Report on American Samoa REAC Meeting

M. SSC Recommendations

N. Public Comment

O. Council Discussion and Action

10. Mariana Archipelago

A. Arongol Faleey and Isla Informe

1. Commonwealth of the Northern Marianas Islands (CNMI)

2. Guam

B. Enforcement Issues

1. CNMI

2. Guam

C. Recommendation on CNMI Management Authority of Fisheries Resources (Action Item)

D. Longline Fisheries Development

E. Marianas Community Issues

1. Turtle Conservation Activities

2. Marine Education and Training Priorities

3. Status of Military Buildup

4. Visa Issues

5. Chamolinian Initiative

F. Education and Outreach Initiatives

G. SSC Recommendations

H. Public Hearing

I. Council Discussion and Action

11. Hawaii Archipelago and PRIA

A. Moku Pepa

B. Enforcement Issues

C. Hawaii Community Issues

1. Aha Kiole Community Final Report

2. Marine Education and Training Priorities

3. Turtle Conservation Activities

4. Submerged/Ceded Lands

8:30 a.m.-5 p.m. Thursday, March 26, 2009

Hawaii Archipelago and PRIA Continues

D. Education and Outreach Initiatives

E. Seamount Groundfish Moratorium Review

F. Main Hawaiian Islands Bottomfish

1. Status of the Total Allowable Catch (TAC)

2. Western Pacific Stock Assessment Review Process for Hawaii Bottomfish

3. Bottomfish TAC Specification (Action Item)

G. SSC Recommendations

H. Public Hearing

I. Council Discussion and Action

12. Pelagic & International Fisheries

A. American Samoa and Hawaii Longline Quarterly Reports

B. Update on Hawaii Shallow-set Longline Fishery Management

C. Report on Video Monitoring Project

D. Report on The Secretariat of the Pacific Community (SPC)-implemented Pacific Tuna Tagging Programme (PTTP)

E. Reports of International Fisheries Meetings

1. WCPFC Conservation and Management Measures

2. IATTC Conservation and Management Measures

3. North Pacific Seamount RFMO

4. Fixed Net/Sea Turtle Interaction Workshop

5. International Science Committee (ISC) Bycatch Working Group

6. Department of State/NMFS/Councils Memorandum of Understanding

F. Recommendations for Management of WCPFC Longline Bigeye Tuna Quota

1. U.S. Quota

2. Territories/Commonwealth Quota

G. Pelagic Action Items

1. Longline Management

a. Recommendation for American Samoa Longline Fishery Management Measures to Minimize Turtle Interactions (Action Item)

2. Non-Longline Management

a. Recommendations for Limited Entry Program and Control Date for the Cross Seamount/NOAA Weather Buoy Fishery (Action Item)

b. Recommendation on Measures to Manage Purse Seine Fishing on FADs and FAD Registration in U.S. EEZ Waters of the Western Pacific (Action Item)

H. Purse Seine Fishery

1. Report on U.S. Fleet

2. Treaty Review

3. WCPFC Conservation Measures

I. Pelagics Plan Team Recommendations

J. SSC Recommendations

K. Public Hearing

L. Council Discussion and Action

13. Administrative Matters & Budget

A. Financial Reports

B. Administrative Reports

C. Meetings and Workshops (Calendar)

1. Report on Council member Training

2. Council Coordinating Committee Interim Meeting Report

D. Council Family Changes

E. Review and Approval of the Four Western Pacific Marine Conservation Plans (Action Item)

F. Standard Operating Procedures and Protocols (SOPP) Proposed Rule

G. Correcting/Addressing Public Perception About The Western Pacific Regional Fishery Management Council

H. Standing Committee Recommendations

I. Public Comment

J. Council Discussion and Action

14. Other Business

A. Next Meeting

Non-emergency issues not contained in this agenda may come before the Council for discussion and formal Council action during its 144th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 25, 2009.
Tracey L. Thompson,
Acting Director, Office of Sustainable Fisheries, National Marine Fisheries Service.

[FR Doc. E9-4302 Filed 2-27-09; 8:45 am]

BILLING CODE 3510-22-S